DEPARTMENT OF AGRICULTURE

[03-03-S]

Grain Inspection, Packers and Stockyards Administration; Designation for the Champaign (IL), Detroit (MI), Eastern Iowa (IA), Enid (OK), Keokuk (IA), and Michigan (MI) Areas

AGENCY: Grain Inspection, Packers and Stockyards Administration, USDA.

ACTION: Notice.

SUMMARY: Grain Inspection, Packers and Stockyards Administration (GIPSA) announces designation of the following organizations to provide official services under the United States Grain Standards Act, as amended (Act):

Champaign-Danville Grain Inspection Departments, Inc. (Champaign);

Detroit Grain Inspection Service, Inc. (Detroit);

Eastern Iowa Grain Inspection and Weighing Service, Inc. (Eastern Iowa);

Enid Grain Inspection Company, Inc. (Enid);

Keokuk Grain Inspection Service (Keokuk); and

Michigan Grain Inspection Services, Inc. (Michigan).

EFFECTIVE DATE: April 1, 2004.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the September 2, 2003, Federal Register (68 FR 52178), GIPSA asked persons interested in providing official services in the geographic areas assigned to the official agencies named above to submit an application for designation. Applications were due by October 1, 2003.

Champaign, Detroit, Eastern Iowa, Enid, Keokuk, and Michigan were the sole applicants for designation to provide official services in the entire area currently assigned to them, so GIPSA did not ask for additional comments on them.

GIPSA evaluated all available information regarding the designation criteria in section 7(f)(l)(A) of the Act and, according to section 7(f)(l)(B), determined that Champaign, Detroit, Eastern Iowa, Enid, Keokuk, and Michigan are able to provide official services in the geographic areas specified in the September 2, 2003, Federal Register, for which they applied. Interested persons may obtain official services by calling the telephone numbers listed below.

Official agency | Headquarters location and telephone | Designation start-end
Champaign | Champaign, IL—(217) 398-0723 Additional locations: Hoopston, IL, and Terre Haute, IN | 4/01/2004-3/31/2007
Detroit | Emmet, MI—(810) 395-2105 | 4/01/2004-3/31/2007
Eastern Iowa | Davenport, IA—(563) 322-7140 Additional locations: Dubuque and Muscatine, IA; Gulfport, IL | 4/01/2004-3/31/2007
Enid | Enid, OK—(580) 233-1121 Additional location: Catoosa, OK | 4/01/2004-3/31/2007
Keokuk | Keokuk, IA—(319) 524-6482 Additional location: Havana, IL | 4/01/2004-3/31/2007
Michigan | Marshall, MI—(269) 781-2711 Additional locations: Cairo, OH, and Carrollton, MI | 4/01/2004-3/31/2007

Authority: Pub. L. 94-582, 90 Stat. 2867, as amended (7 U.S.C. 71 et seq.).

Donna Reifschneider,
Administrator, Grain Inspection, Packers and Stockyards Administration.

[FR Doc. 04-4416 Filed 2-27-04; 8:45 am]

BILLING CODE 3410-EN-P